LIBRARY OF CONGRESS

Copyright Royalty Board

37 CFR Part 386

[Docket No. 2010-4 CRB Satellite Rate]

Rate Adjustment for the Satellite Carrier Compulsory License

AGENCY: Copyright Royalty Board, Library of Congress.

ACTION: Proposed rule.

SUMMARY: The Copyright Royalty Judges are publishing for comment negotiated royalty rates for the satellite carrier statutory license of the Copyright Act for the license period 2010-2014.

DATES: Objections to the proposed rates must be submitted no later than August 12, 2010.

ADDRESSES: Objections may be sent electronically to crb@loc.gov. In the alternative, send an original, five copies and an electronic copy on a CD either by mail or hand delivery. Please do not use multiple means of transmission. Objections may not be delivered by overnight delivery service other than the U.S. Postal Service Express Mail. If by mail (including overnight delivery), objections must be addressed to: Copyright Royalty Board, P.O. Box 70977, Washington, DC 20024-0977. If hand delivered by a private party, objections must be brought to the Copyright Office Public Information Office, Library of Congress, James Madison Memorial Building, Room LM-401, 101 Independence Avenue, SE., Washington, DC 20559-6000, between 8:30 a.m. and 5 p.m. If delivered by a commercial courier, objections must be delivered between 8:30 a.m. and 4 p.m. to the Congressional Courier Acceptance Site located at 2nd and D Street, NE., Washington, DC, and the envelope must be addressed to: Copyright Royalty Board, Library of Congress, James Madison Memorial Building, Room LM-403, 101 Independence Avenue, SE., Washington, DC 20559-6000.

FOR FURTHER INFORMATION CONTACT: Richard Strasser, Senior Attorney, or Gina Giuffreda, Attorney Advisor, by telephone at (202) 707-7658 or e-mail at crb@loc.gov.

SUPPLEMENTARY INFORMATION: As required by section 119(c)(1)(B) of the Copyright Act, title 17 of the United States Code, the Copyright Royalty Judges published a Notice in the Federal Register announcing the commencement of a voluntary negotiation period for the purpose of determining the royalty fees to be paid under the satellite carrier statutory license, 17 U.S.C. 119. 75 FR 32228 (June 7, 2010). The law further provides that parties that have reached a voluntary agreement as to the rates may, within ten days of publication of the Notice, “request that the royalty fees in that agreement be applied to all satellite carriers, distributors, and copyright owners without convening a proceeding under subparagraph (F).” 17 U.S.C. 119(c)(1)(D)(ii)(I). The ten-day period ended on June 17, 2010.

On June 9, 2010, the Judges received a voluntary agreement from the Program Suppliers and Joint Sports Claimants (collectively, the “Copyright Owners”) and DIRECTV, Inc., DISH Network, LLC, and National Programming Service, LLC (collectively, the “Satellite Carriers”). The Copyright Owners and Satellite Carriers request that the Judges adopt the rates set forth in Article 2 of their agreement, which we are publishing today for comment. The Judges are publishing the rates as required by section 119(c)(1)(D)(ii)(II).

Section 119(c)(1)(D)(ii)(III) provides that the Judges shall adopt the negotiated rates “unless a party with an intent to participate in the proceeding and a significant interest in the outcome of that proceeding objects under clause (II).” Any party that files an objection to the rates published in today's Notice must state their intention to participate in a proceeding and state in detail their reasons for the objection as well their significant interest in the outcome of this proceeding.

List of Subjects in 37 CFR Part 386

Copyright, Satellite, Television.

Proposed Regulations

For the reasons set forth in the preamble, the Copyright Royalty Judges propose to add part 386 to Chapter III of title 37 of the Code of Federal Regulations to read as follows:

PART 386—ADJUSTMENT OF ROYALTY FEES FOR SECONDARY TRANSMISSIONS BY SATELLITE CARRIERS

Sec.
386.1 General.
386.2 Royalty fee for secondary transmission by satellite carriers.

Authority: 17 U.S.C. 119(c), 801(b)(1).

§ 386.1 General.

This part 386 adjusts the rates of royalties payable under the statutory license for the secondary transmission of broadcast stations under 17 U.S.C. 119.

§ 386.2 Royalty fee for secondary transmission by satellite carriers.

(a) General. (1) For purposes of this section, Per subscriber per month shall mean for each subscriber subscribing to the station in question (or to a package including such station) on the last day of a given month.

(2) In the case of a station engaged in digital multicasting, the rates set forth in paragraph (b) of this section shall apply to each digital stream that a satellite carrier or distributor retransmits pursuant to 17 U.S.C. 119, provided however that no additional royalty shall be paid for the carriage of any material related to the programming on such stream.

(b) Rates. (1) Private home viewing. The rates applicable to Satellite Carriers' carriage of each broadcast signal for private home viewing shall be as follows:

(i) 2010: 25 cents per subscriber per month (for each month of 2010;

(ii) 2011: the 2010 rate, adjusted for the amount of inflation as measured by the change in the Consumer Price Index for all Urban Consumers All Items for October 2009 to October 2010;

(iii) 2012: the 2011 rate, adjusted for the amount of inflation as measured by the change in the Consumer Price Index for all Urban Consumers All Items for October 2010 to October 2011;

(iv) 2013: the 2012 rate, adjusted for the amount of inflation as measured by the change in the Consumer Price Index for all Urban Consumers All Items from October 2011 to October 2012;

(v) 2014: the 2013 rate, adjusted for the amount of inflation as measured by the change in the Consumer Price Index for all Urban Consumers All Items from October 2012 to October 2013.

(2) Viewing in Commercial Establishments. The rates applicable to Satellite Carriers' carriage of each broadcast signal for viewing in commercial establishments shall be as follows:

(i) 2010: 50 cents per subscriber per month (for each month of 2010);

(ii) 2011: the 2010 rate, adjusted for the amount of inflation as measured by the change in the Consumer Price Index for all Urban Consumers All Items from October 2009 to October 2010;

(iii) 2012: the 2011 rate, adjusted for the amount of inflation as measured by the change in the Consumer Price Index for all Urban Consumers All Items from October 2010 to October 2011;

(iv) 2013: the 2012 rate, adjusted for the amount of inflation as measured by the change in the Consumer Price Index for all Urban Consumers All Items from October 2011 to October 2012;

(v) 2014: the 2013 rate, adjusted for the amount of inflation as measured by the change in the Consumer Price Index for all Urban Consumers All Items from October 2012 to October 2013.

Dated: July 8, 2010.
William J. Roberts, Jr.,
U.S. Copyright Royalty Judge.

[FR Doc. 2010-17037 Filed 7-12-10; 8:45 am]

BILLING CODE 1410-72-P